DEPARTMENT OF DEFENSE

Office of the Secretary

Defense Business Board; Notice of Federal Advisory Committee Meeting

AGENCY: Office of the Deputy Secretary of Defense, Department of Defense (DoD).

ACTION: Notice of Federal advisory committee meeting.

SUMMARY: The DoD is publishing this notice to announce that the following Federal advisory committee meeting of the Defense Business Board (“the Board”) will take place.

DATES: Closed to the public Wednesday, August 2, 2023 and Thursday, August 3, 2023.

ADDRESSES: The closed meeting will be in rooms 1E840 and 4D880 in the Pentagon, and at The White House, Washington DC.

FOR FURTHER INFORMATION CONTACT: Ms. Jennifer Hill, Designated Federal Officer (DFO) of the Board in writing at Defense Business Board, 1155 Defense Pentagon, Room 5B1088A, Washington, DC 20301-1155; or by email at jennifer.s.hill4.civ@mail.mil; or by phone at 571-342-0070.

SUPPLEMENTARY INFORMATION: This meeting is being held under the provisions of chapter 10 of title 5, United States Code (U.S.C.) (commonly known as the “Federal Advisory Committee Act” or “FACA”), 5 U.S.C. 552b (commonly known as the “Government in the Sunshine Act”), and 41 CFR 102-3.140 and 102-3.150.

Due to circumstances beyond the control of the Department of Defense and the Designated Federal Officer, the Defense Business Board was unable to provide public notification required by 41 CFR 102-3.150(a) concerning its August 2-3, 2023 meeting. Accordingly, the Advisory Committee Management Officer for the Department of Defense, pursuant to 41 CFR 102-3.150(b), waives the 15-calendar day notification requirement.

Purpose of the Meeting: The mission of the Board is to examine and advise the Secretary of Defense on overall DoD management and governance. The Board provides independent, strategic-level, private sector and academic advice and counsel on enterprise-wide business management approaches and best practices for business operations and achieving National Defense goals.

Agenda: The Board will hold a closed meeting on August 2 and August 3. The DFO will open the closed meeting followed by a welcome by Board Chair, Hon. Deborah James. The Board will receive classified discussions on Space Force Modernization and Joint Force Integration from General David D. Thompson, Vice Chief of Space Operations; Assessing Innovation Through the NDAA from Hon. Kathleen Hicks, Deputy Secretary of Defense; DoD Current Affairs from Hon. Lloyd Austin, Secretary of Defense; and Artificial Intelligence/Machine Learning Scaffolding from Mr. Joe Larson, Deputy Director of the Chief Digital and Artificial Intelligence Office for Algorithmic Warfare. After a break, the board will receive a classified update on the Globally Integrated Wargame and Recommendations from Lt Gen Dagvin R.M. Anderson (USAF), Director for Joint Force Development; a classified discussion on Joint Force Capabilities Integration from ADM Michael Gilday, Chief of Naval Operations; and the State of the National Guard from GEN Daniel R. Hokanson, Chief of the National Guard Bureau. The Board will take a short break, then receive remarks by Board Chair, Hon Deborah James and Deputy Secretary, Hon. Kathleen Hicks. Next, the board will hear a classified update on the DBB Improving IT User Experience Study from Hon. John Sherman, Department of Defense Chief Information Officer. The DFO will adjourn the closed meeting. The Board will begin in closed meeting on August 3 at The White House. The DFO will open the closed meeting followed by the Chair's welcome. Next the board will have a classified discussion on the U.S. Economic Outlook and Recent NATO Summit from Mr. Jeff Zients, White House Chief of Staff, and Mr. Jake Sullivan, National Security Advisor. The DFO will then adjourn the closed meeting.

The latest version of the agenda will be available on the Board's website at: https://dbb.dod.afpims.mil/Meetings/Meeting-Aug-2023/.

Meeting Accessibility: In accordance with 5 U.S.C. 1009(d) and 41 CFR 102-3.155, it is hereby determined that the August 2-3 meeting of the Board will include classified information and other matters covered by 5 U.S.C. 552b(c)(1) and that, accordingly, the meeting will be closed to the public. This determination is based on the consideration that it is expected that discussions throughout these periods will involve classified matters of national security. Such classified material is so intertwined with the unclassified material that it cannot reasonably be segregated into separate discussions without defeating the effectiveness and meaning of these portions of the meeting. To permit these portions of the meeting to be open to the public would preclude discussion of such matters and would greatly diminish the ultimate utility of the Board's findings and recommendations to the Secretary of Defense and to the Deputy Secretary of Defense.

Written Comments and Statements: Pursuant to 41 CFR 102-3.105(j) and 102-3.140 and 5 U.S.C. 1009(a)(3) of the FACA, the public or interested organizations may submit written comments or statements to the Board in response to the stated agenda of the meeting or regarding the Board's mission in general. Written comments or statements should be submitted to Ms. Jennifer Hill, the DFO, via electronic mail (the preferred mode of submission) at the address listed in the FOR FURTHER INFORMATION CONTACT section. Each page of the comment or statement must include the author's name, title or affiliation, address, and daytime phone number. The DFO must receive written comments or statements submitted in response to the agenda set forth in this notice by Monday, July 31, 2023, to be considered by the Board. The DFO will review all timely submitted written comments or statements with the Board Chair and ensure the comments are provided to all members of the Board before the meeting. Written comments or statements received after this date may not be provided to the Board until its next scheduled meeting. Please note that all submitted comments and statements will be treated as public documents and will be made available for public inspection, including, but not limited to, being posted on the Board's website.

Dated: July 25, 2023.
Aaron T. Siegel,
Alternate OSD Federal Register Liaison Officer, Department of Defense.

[FR Doc. 2023-16115 Filed 7-28-23; 8:45 am]

BILLING CODE 5001-06-P